DEPARTMENT OF TRANSPORTATION

Federal Aviation Administration

14 CFR Part 39

[Docket No. FAA-2008-0263; Directorate Identifier 2008-NM-044-AD; Amendment 39-15423; AD 2008-06-11]

RIN 2120-AA64

Airworthiness Directives; Saab Model SAAB SF340A and SAAB 340B (Including Variant 340B (WT)) Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Subsequent to an incident on January 2, 2006, when a Saab 340B airplane encountered icing conditions during en route climb and departed controlled flight, the NTSB (National Transportation Safety Board) has issued a number of safety recommendations.

* * * * *

The unsafe condition is possible stalling while operating in icing conditions, which could result in loss of control of the airplane. This AD requires actions that are intended to address the unsafe condition described in the MCAI.

DATES: This AD becomes effective March 27, 2008.

The Director of the Federal Register approved the incorporation by reference of certain publications listed in the AD as of March 27, 2008.

We must receive comments on this AD by April 11, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Discussion

The European Aviation Safety Agency (EASA), which is the Technical Agent for the Member States of the European Community, has issued Airworthiness Directive 2008-0022, dated January 29, 2008 (referred to after this as “the MCAI”), to correct an unsafe condition for the specified products. The MCAI states:

Subsequent to an incident on January 2, 2006, when a Saab 340B airplane encountered icing conditions during en route climb and departed controlled flight, the NTSB (National Transportation Safety Board) has issued a number of safety recommendations.

Different safety actions have been discussed and agreed upon [among] Saab, FAA and EASA (European Aviation Safety Agency) since then to meet the NTSB safety recommendations.

For the reasons described above, this Airworthiness Directive (AD) requires the amendment of the applicable Saab SF340A or 340B Airplane Flight Manual (AFM) to incorporate the changes to the Limitations section and the Performance section as specified in the AFM revisions listed in the * * * AD.

The unsafe condition is possible stalling while operating in icing conditions, which could result in loss of control of the airplane. You may obtain further information by examining the MCAI in the AD docket.

On April 19, 1996, we issued AD 96-01-04 R1, amendment 39-9582 (61 FR 18242, April 25, 1996). That AD is applicable to certain Saab Model SAAB SF340A and SAAB 340B series airplanes. Paragraph (a)(3) of AD 96-01-04 R1 requires revising the Limitations Section of the airplane flight manual (AFM) by inserting certain icing procedures into that section. Accomplishing the actions required by this new AD terminates the actions required by paragraph (a)(3) of AD 96-01-04 R1.

On November 10, 1999, we issued AD 99-19-14, amendment 39-11303 (64 FR 63622, November 22, 1999). That AD is applicable to certain Saab Model SAAB SF340A, SAAB 340B, and SAAB 2000 series airplanes. Paragraph (a) of AD 99-19-14 requires revising the Limitations Section of the AFM to include certain requirements for activation of the icing protection systems. Accomplishing the actions required by this new AD terminates the actions required by paragraph (a) of AD 99-19-14 for Model SAAB SF340A and SAAB 340B series airplanes.

Relevant Service Information

SAAB has issued the following revisions to the SAAB SF340A and 340B AFMs:

AFM | Document No. | Revision level | Date
SAAB SF340A | AFM 340 A 001 | 51 | November 30, 2007.
SAAB 340B | 72LKS5968 | 21 | November 30, 2007.
SAAB 340B | AFM 340 B 001 | 29 | November 30, 2007.

The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule to prevent possible stalling while operating in icing conditions, which could result in loss of control of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0263; Directorate Identifier 2008-NM-044-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-11 Saab AB, Saab Aerosystems (Formerly Saab Aircraft AB): Amendment 39-15423. Docket No. FAA-2008-0263; Directorate Identifier 2008-NM-044-AD.

Effective Date

(a) This airworthiness directive (AD) becomes effective March 27, 2008.

Affected ADs

(b) None.

Applicability

(c) This AD applies to all Saab Model SAAB SF340A and SAAB 340B (including Variant 340B (WT)) series airplanes, certificated in any category.

Subject

(d) Air Transport Association (ATA) of America Code 30: Ice and rain protection.

Reason

(e) The mandatory continued airworthiness information (MCAI) states:

Subsequent to an incident on January 2, 2006, when a Saab 340B airplane encountered icing conditions during en route climb and departed controlled flight, the NTSB (National Transportation Safety Board) has issued a number of safety recommendations.

Different safety actions have been discussed and agreed upon [among] Saab, FAA and EASA (European Aviation Safety Agency) since then to meet the NTSB safety recommendations.

For the reasons described above, this Airworthiness Directive (AD) requires the amendment of the applicable Saab SF340A or 340B Airplane Flight Manual (AFM) to incorporate the changes to the Limitations section and the Performance section as specified in the AFM revisions listed in the * * * AD.

The unsafe condition is possible stalling while operating in icing conditions, which could result in loss of control of the airplane.

Actions and Compliance

(f) Within 30 days after the effective date of this AD, unless already done, revise the Limitations and Performance sections in the applicable AFM specified in Table 1 of this AD by incorporating the information in the applicable revision specified in Table 1.

Table 1.—Applicable AFMs
AFM | Document No. | Revision level | Date
SAAB SF340A | AFM 340 A 001 | 51 | November 30, 2007.
SAAB 340B | 72LKS5968 | 21 | November 30, 2007.
SAAB 340B | AFM 340 B 001 | 29 | November 30, 2007.

Note 1: The action required by paragraph (f) of this AD may be done by inserting into the appropriate AFM sections a copy of the applicable revision listed in Table 1 of this AD. When this revision has been included in the general revisions of the AFM, the general revisions may be inserted into the AFM, provided the relevant information in the general revision is identical to that in the revision listed in Table 1 of this AD.

Note 2: The AFM areas affected by this AD are:

(1) Definition of icing conditions;

(2) Operation in icing conditions;

(3) Minimum airspeeds in icing conditions;

(4) Auto pilot mode in icing conditions; and

(5) Landing field length charts, including effect of VREF speed increment.

Terminating Actions

(g) For Model SAAB SF340A and SAAB 340B airplanes: Accomplishing the actions required by paragraph (f) of this AD terminates the actions required by paragraph (a)(3) of AD 96-01-04 R1 and paragraph (a) of AD 99-19-14.

FAA AD Differences

Note 3: This AD differs from the MCAI and/or service information as follows: No differences.

Other FAA AD Provisions

(h) The following provisions also apply to this AD:

(1) Alternative Methods of Compliance (AMOCs): The Manager, International Branch, ANM-116, FAA, has the authority to approve AMOCs for this AD, if requested using the procedures found in 14 CFR 39.19. Send information to Attn: Shahram Daneshmandi, Aerospace Engineer, International Branch, ANM-116, Transport Airplane Directorate, FAA, 1601 Lind Avenue, SW., Renton, Washington 98057-3356; telephone (425) 227-1112; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI European Aviation Safety Agency Airworthiness Directive 2008-0022, dated January 29, 2008, and the applicable AFM revision specified in Table 1 of this AD, for related information.

Material Incorporated by Reference

(j) You must use the service information specified in Table 2 of this AD to do the actions required by this AD, unless the AD specifies otherwise.

Table 2.—Material Incorporated by Reference
Document | Page Nos. | Revision level | Date
SAAB SF340A Airplane Flight Manual, AFM 340 A 001 | List of Effective Pages: Pages 1-4 through 1-6 | 51 | November 30, 2007.
SAAB 340B Airplane Flight Manual, 72LKS5968 | List of Effective Pages: Pages 1-4 through 1-7 | 21 | November 30, 2007.
SAAB 340B Airplane Flight Manual, AFM 340 B 001 | List of Effective Pages: Pages 1-4 through 1-6 | 29 | November 30, 2007.

(1) The Director of the Federal Register approved the incorporation by reference of this service information under 5 U.S.C. 552(a) and 1 CFR part 51.

(2) For service information identified in this AD, contact Saab Aircraft AB, SAAB Aircraft Product Support, S-581.88, Linköping, Sweden.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on March 3, 2008.
Ali Bahrami,
Manager, Transport Airplane Directorate, Aircraft Certification Service.

[FR Doc. E8-4660 Filed 3-11-08; 8:45 am]

BILLING CODE 4910-13-P